DEPARTMENT OF THE INTERIOR

Bureau of Land Management

[LLMT926000-09-L19100000-BJ0000-LRCM08RS3472]

Filing of Plat of Survey—Montana

AGENCY: Bureau of Land Management, Montana State Office, Interior.

ACTION: Notice of filing of plat of survey.

SUMMARY: The Bureau of Land Management (BLM) will file the plat of survey of the lands described below in the BLM Montana State Office, Billings, Montana, thirty (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs, Rocky Mountain Region, Billings, Montana, and was necessary to determine Individual and Tribal Trust lands.

The lands we surveyed are:

Principal Meridian, Montana

T. 26 N., R. 45 E.

The plat, in 6 sheets, representing the dependent resurvey of a portion of the east boundary, the corrective dependent resurvey of the lines between sections 2 and 11 and sections 8 and 17, the dependent resurvey of a portion of the subdivisional lines, a portion of the subdivision of sections 2, 3, 8, 10, 11, 13, and 16, the adjusted original meanders of the former left bank of the Missouri River, downstream, through sections 10, 11, 13, 15, 16, and 17, and the subdivision of sections 2, 3, 8, 10, 11, 13, and 16, and the survey of the meanders of the present left bank of the Missouri River, downstream, through sections 2, 3, 8, 10, 11, 13, 15, 16, and 17, the limits of erosion, downstream, through section 10, the meanders of the left bank of two relicted channels of the Missouri River, downstream, through sections 3, 8, 10, and 17, the medial lines of two relicted channels of the Missouri River, certain division of accretion and partition lines, and certain islands (Tracts 37 through 44), Township 26 North, Range 45 East, Principal Meridian, Montana, was accepted September 8, 2009. We will place a copy of the plat, in 6 sheets, and related field notes we described in the open files. They will be available to the public as a matter of information. If BLM receives a protest against this survey, as shown on this plat, in 6 sheets, prior to the date of the official filing, we will stay the filing pending our consideration of the protest. We will not officially file this plat, in 6 sheets, until the day after we have accepted or dismissed all protests and they have become final, including decisions or appeals.

Dated: September 16, 2009.
Steven G. Schey,
Acting Chief Cadastral Surveyor, Division of Resources.

[FR Doc. E9-23430 Filed 9-28-09; 8:45 am]

BILLING CODE 4310-$$-P